COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Date deleted from the Procurement List: January 7, 2018.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Deletions

On 10/27/2017 (82 FR 49788) and 11/3/2017 (82 FR 51221-51224), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s): 5340-01-259-4151—AQL Inspection

Mandatory Source(s) of Supply: Provail, Seattle, WA

Contracting Activity: Defense Logistics Agency Troop Support

NSN(s)—Product Name(s):

8405-00-NSH-1347—14-14.5 Neck, 32-33 Sleeve

8405-00-NSH-1351—16-16.5 Neck, 33-34 Sleeve

8405-00-NSH-1352—16-16.5 Neck, 34-35 Sleeve

8405-00-NSH-1348—14-14.5 Neck, 33-34 Sleeve

8405-00-NSH-1349—15-15.5 Neck, 33-34 Sleeve

8405-00-NSH-1350—15-15.5 Neck, 34-35 Sleeve

8405-00-NSH-1353—17-17.5 Neck, 34-35 Sleeve

8405-00-NSH-1354—17-17.5 Neck, 35-36 Sleeve

8405-00-NSH-1355—18-18.5 Neck, 35-36 Sleeve

8405-00-NSH-1356—18-18.5 Neck, 36-37 Sleeve

8405-00-NSH-1357—19-19.5 Neck, 36-37 Sleeve

8405-00-NSH-1358—19-19.5 Neck, 37-38 Sleeve

8405-00-NSH-1359—20-20.5 Neck, 37-38 Sleeve

8405-00-NSH-1360—20-20.5 Neck, 38-39 Sleeve

8405-00-NSH-1361—21-21.5 Neck, 38-39 Sleeve

8405-00-NSH-1362—21-21.5 Neck, 40-41 Sleeve

8405-00-NSH-1363—22-22.5 Neck, 40-41 Sleeve

8405-00-NSH-1364—22-22.5 Neck, 41-42 Sleeve

8405-00-NSH-1263—14-14.5 Neck, Small Tall

8405-00-NSH-1264—15-15.5 Neck, Medium Tall

8405-00-NSH-1265—16-16.5 Neck, Large Tall

8405-00-NSH-1266—17-17.5 Neck, X Large Tall

8405-00-NSH-1166—22-22.5 Neck, 6X Large

8405-00-NSH-1165—21-21.5 Neck, 5X Large

8405-00-NSH-1164—20-20.5 Neck, 4X Large

8405-00-NSH-1162—18-18.5 Neck, XX Large

8405-00-NSH-1161—17-17.5 Neck, X Large

8405-00-NSH-1160—16-16.5 Neck, Large

8405-00-NSH-1159—15-15.5 Neck, Medium

8405-00-NSH-1158—14-14.5 Neck, Small

8405-00-NSH-1163—19-19.5 Neck, XXX Large

8405-00-NSH-1267—18-18.5 Neck, XX Large Tall

8405-00-NSH-1268—19-19.5 Neck, XXX Large Tall

8405-00-NSH-1269—20-20.5 Neck, 4X Large Tall

8405-00-NSH-1270—21-21.5 Neck, 5X Large Tall

8405-00-NSH-1271—22-22.5 Neck, 6X Large Tall

8405-00-NSH-1127—16-16.5 Neck, 34-35 Sleeve

8405-00-NSH-1122—14-14.5 Neck, 32-33 Sleeve

8405-00-NSH-1123—14-14.5 Neck, 33-34 Sleeve

8405-00-NSH-1124—15-15.5 Neck, 33-34 Sleeve

8405-00-NSH-1125—15-15.5 Neck, 34-35 Sleeve

8405-00-NSH-1126—16-16.5 Neck, 33-34 Sleeve

8405-00-NSH-1128—17-17.5 Neck, 34-35 Sleeve

8405-00-NSH-1129—17-17.5 Neck, 35-36 Sleeve

8405-00-NSH-1130—18-18.5 Neck, 35-36 Sleeve

8405-00-NSH-1131—18-18.5 Neck, 36-37 Sleeve

8405-00-NSH-1132—19-19.5 Neck, 36-37 Sleeve

8405-00-NSH-1133—19-19.5 Neck, 37-38 Sleeve

8405-00-NSH-1134—20-20.5 Neck, 37-38 Sleeve

8405-00-NSH-1135—20-20.5 Neck, 38-39 Sleeve

8405-00-NSH-1136—21-21.5 Neck, 38-39 Sleeve

8405-00-NSH-1137—21-21.5 Neck, 40-41 Sleeve

8405-00-NSH-1138—22-22.5 Neck, 40-41 Sleeve

8405-00-NSH-1139—22-22.5 Neck, 41-42 Sleeve

8405-00-NSH-1103—Size 36

8405-00-NSH-1104—Size 38

8405-00-NSH-1105—size 40

8405-00-NSH-1106—size 42

8405-00-NSH-1107—size 44

8405-00-NSH-1108—size 46

8405-00-NSH-1109—size 48

8405-00-NSH-1099—Size 28

8405-00-NSH-1100—Size 30

8405-00-NSH-1101—Size 32

8405-00-NSH-1102—Size 34

8405-00-NSH-1114—Size 36

8405-00-NSH-1115—Size 38

8405-00-NSH-1116—size 40

8405-00-NSH-1117—size 42

8405-00-NSH-1118—size 44

8405-00-NSH-1119—size 46

8405-00-NSH-1120—size 48

8405-00-NSH-1121—size 50

8405-00-NSH-1110—Size 28

8405-00-NSH-1111—Size 30

8405-00-NSH-1112—Size 32

8405-00-NSH-1113—Size 34

8405-00-NSH-1369—Size 36

8405-00-NSH-1370—Size 38

8405-00-NSH-1371—size 40

8405-00-NSH-1372—size 42

8405-00-NSH-1373—size 44

8405-00-NSH-1374—size 46

8405-00-NSH-1375—size 48

8405-00-NSH-1376—size 50

8405-00-NSH-1366—Size 30

8405-00-NSH-1365—Size 28

8405-00-NSH-1367—Size 32

8405-00-NSH-1368—Size 34

8410-00-NSH-6329—size 4

8410-00-NSH-6330—size 6

8410-00-NSH-6331—size 8

8410-00-NSH-6337—size 20

8410-00-NSH-6338—size 22

8410-00-NSH-6334—size 14

8410-00-NSH-6332—size 10

8410-00-NSH-6333—size 12

8410-00-NSH-6335—size 16

8410-00-NSH-6336—size 18

8410-00-NSH-6340—size 4

8410-00-NSH-6341—size 6

8410-00-NSH-6342—size 8

8410-00-NSH-6347—size 18

8410-00-NSH-6339—size 2

8410-00-NSH-6348—size 20

8410-00-NSH-6349—size 22

8410-00-NSH-6350—size 24

8410-00-NSH-6343—size 10

8410-00-NSH-6344—size 12

8410-00-NSH-6345—size 14

8410-00-NSH-6346—size 16

8410-00-NSH-6406—size 4

8410-00-NSH-6407—size 6

8410-00-NSH-6408—size 8

8410-00-NSH-6413—size 18

8410-00-NSH-6405—size 2

8410-00-NSH-6414—size 20

8410-00-NSH-6415—size 22

8410-00-NSH-6416—size 24

8410-00-NSH-6409—size 10

8410-00-NSH-6410—size 12

8410-00-NSH-6411—size 14

8410-00-NSH-6412—size 16

8410-00-NSH-6351—Small

8410-00-NSH-6377—Small Tall

8410-00-NSH-6354—X Large

8410-00-NSH-6380—X Large Tall

8410-00-NSH-6355—XX Large

8410-00-NSH-6381—XX Large Tall

8410-00-NSH-6382—XXX Large Tall

8410-00-NSH-6356—XXX Large

8410-00-NSH-6353—Large

8410-00-NSH-6379—Large Tall

8410-00-NSH-6352—Medium

8410-00-NSH-6378—Medium Tall

8410-00-NSH-6358—Small

8410-00-NSH-6384—Small Tall

8410-00-NSH-6361—X Large

8410-00-NSH-6387—X Large Tall

8410-00-NSH-6362—XX Large

8410-00-NSH-6388—XX Large Tall

8410-00-NSH-6363—XXX Large

8410-00-NSH-6389—XXX Large Tall

8410-00-NSH-6360—Large

8410-00-NSH-6386—Large Tall

8410-00-NSH-6359—Medium

8410-00-NSH-6385—Medium Tall

8410-00-NSH-6391—Small

8410-00-NSH-6392—Small Tall

8410-00-NSH-6397—X Large

8410-00-NSH-6398—X Large Tall

8410-00-NSH-6399—XX Large

8410-00-NSH-6400—XX Large Tall

8410-00-NSH-6401—XXX Large

8410-00-NSH-6402—XXX Large Tall

8410-00-NSH-6395—Large

8410-00-NSH-6396—Large Tall

8410-00-NSH-6393—Medium

8410-00-NSH-6394—Medium Tall

8405-00-NSH-1229—X Large

8405-00-NSH-1230—XX Large

8405-00-NSH-1231—XXX Large

8405-00-NSH-1228—Large

8405-00-NSH-1227—Medium

8405-00-NSH-1234—X Large

8405-00-NSH-1235—XX Large

8405-00-NSH-1236—XXX Large

8405-00-NSH-1233—Large

8405-00-NSH-1232—Medium

8405-00-NSH-1257—X Large

8405-00-NSH-1258—XX Large

8405-00-NSH-1345—XX Large Tall

8405-00-NSH-1259—XXX Large

8405-00-NSH-1346—XXX Large Tall

8405-00-NSH-1344—X Large Tall

8405-00-NSH-1255—Medium

8405-00-NSH-1256—Large

8405-00-NSH-1343—Large Tall

8405-00-NSH-1390—X Large

8405-00-NSH-1392—XX Large

8405-00-NSH-1394—XXX Large

8405-00-NSH-1388—Large

8405-00-NSH-1386—Medium

8405-00-NSH-1400—X Large

8405-00-NSH-1402—XX Large

8405-00-NSH-1404—XXX Large

8405-00-NSH-1398—Large

8405-00-NSH-1396—Medium

8405-00-NSH-1420—X Large

8405-00-NSH-1422—XX Large

8405-00-NSH-1424—XXX Large

8405-00-NSH-1418—Large

8405-00-NSH-1416—Medium

8405-00-NSH-1242—Knee Length, 44

8405-00-NSH-1241—Knee Length, 42

8405-00-NSH-1240—Knee Length, 40

8405-00-NSH-1239—Knee Length, 38

8405-00-NSH-1238—Knee Length, 36

8405-00-NSH-1237—Knee Length, 34

8405-00-NSH-1245—Knee Length, 50

8405-00-NSH-1244—Knee Length, 48

8405-00-NSH-1243—Knee Length, 46

8410-00-NSH-6365—Knee Length, X Small

8410-00-NSH-6366—Knee Length, Small

8410-00-NSH-6370—Knee Length, XX Large

8410-00-NSH-6367—Knee Length, Medium

8410-00-NSH-6368—Knee Length, Large

8405-00-NSH-1145—16-16.5 Neck, 34-35 Sleeve

8405-00-NSH-1140—14-14.5 Neck, 32-33 Sleeve

8405-00-NSH-1141—14-14.5 Neck, 33-34 Sleeve

8405-00-NSH-1142—15-15.5 Neck, 33-34 Sleeve

8405-00-NSH-1143—15-15.5 Neck, 34-35 Sleeve

8405-00-NSH-1144—16-16.5 Neck, 33-34 Sleeve

8405-00-NSH-1146—17-17.5 Neck, 34-35 Sleeve

8405-00-NSH-1147—17-17.5 Neck, 35-36 Sleeve

8405-00-NSH-1148—18-18.5 Neck, 35-36 Sleeve

8405-00-NSH-1149—18-18.5 Neck, 36-37 Sleeve

8405-00-NSH-1150—19-19.5 Neck, 36-37 Sleeve

8405-00-NSH-1151—19-19.5 Neck, 37-38 Sleeve

8405-00-NSH-1152—20-20.5 Neck, 37-38 Sleeve

8405-00-NSH-1153—20-20.5 Neck, 38-39 Sleeve

8405-00-NSH-1154—21-21.5 Neck, 38-39 Sleeve

8405-00-NSH-1155—21-21.5 Neck, 40-41 Sleeve

8405-00-NSH-1156—22-22.5 Neck, 40-41 Sleeve

8405-00-NSH-1157—22-22.5 Neck, 41-42 Sleeve

Contracting Activity: AMS 31C3, Washington, DC

8405-00-NSH-1215—Small

8405-00-NSH-1320—Small Tall

8405-00-NSH-1218—X Large

8405-00-NSH-1323—X Large Tall

8405-00-NSH-1219—XX Large

8405-00-NSH-1322—Large Tall

8405-00-NSH-1217—Large

8405-00-NSH-1216—Medium

8405-00-NSH-1321—Medium Tall

8405-00-NSH-1324—XX Large Tall

8405-00-NSH-1220—XXX Large

8405-00-NSH-1325—XXX Large Tall

8405-00-NSH-1221—Small

8405-00-NSH-1326—Small Tall

8405-00-NSH-1224—X Large

8405-00-NSH-1329—X Large Tall

8405-00-NSH-1223—Large

8405-00-NSH-1328—Large Tall

8405-00-NSH-1222—Medium

8405-00-NSH-1327—Medium Tall

8405-00-NSH-1225—XX Large

8405-00-NSH-1330—XX Large Tall

8405-00-NSH-1226—XXX Large

8405-00-NSH-1331—XXX Large Tall

8405-00-NSH-1272—Small Tall

8405-00-NSH-1170—X Large

8405-00-NSH-1275—X Large Tall

8405-00-NSH-1171—XX Large

8405-00-NSH-1169—Large

8405-00-NSH-1274—Large Tall

8405-00-NSH-1168—Medium

8405-00-NSH-1273—Medium Tall

8405-00-NSH-1167—Small

8405-00-NSH-1276—XX Large Tall

8405-00-NSH-1172—XXX Large

8405-00-NSH-1277—XXX Large Tall

8405-00-NSH-1278—Small Tall

8405-00-NSH-1176—X Large

8405-00-NSH-1281—X Large Tall

8405-00-NSH-1177—XX Large

8405-00-NSH-1175—Large

8405-00-NSH-1279—Medium Tall

8405-00-NSH-1280—Large Tall

8405-00-NSH-1174—Medium

8405-00-NSH-1178—XXX Large

8405-00-NSH-1283—XXX Large Tall

8405-00-NSH-1282—XX Large Tall

8405-00-NSH-1173—Small

8405-00-NSH-1284—Small Tall

8405-00-NSH-1287—X Large Tall

8405-00-NSH-1183—XX Large

8405-00-NSH-1181—Large

8405-00-NSH-1182—X Large

8405-00-NSH-1286—Large Tall

8405-00-NSH-1180—Medium

8405-00-NSH-1285—Medium Tall

8405-00-NSH-1179—Small

8405-00-NSH-1184—XXX Large

8405-00-NSH-1289—XXX Large Tall

8405-00-NSH-1288—XX Large Tall

8405-00-NSH-1290—Small Tall

8405-00-NSH-1188—X Large

8405-00-NSH-1293—X Large Tall

8405-00-NSH-1189—XX Large

8405-00-NSH-1187—Large

8405-00-NSH-1292—Large Tall

8405-00-NSH-1186—Medium

8405-00-NSH-1291—Medium Tall

8405-00-NSH-1185—Small

8405-00-NSH-1294—XX Large Tall

8405-00-NSH-1190—XXX Large

8405-00-NSH-1295—XXX Large Tall

8405-00-NSH-1296—Small Tall

8405-00-NSH-1194—X Large

8405-00-NSH-1299—X Large Tall

8405-00-NSH-1195—XX Large

8405-00-NSH-1193—Large

8405-00-NSH-1298—Large Tall

8405-00-NSH-1192—Medium

8405-00-NSH-1297—Medium Tall

8405-00-NSH-1191—Small

8405-00-NSH-1300—XX Large Tall

8405-00-NSH-1196—XXX Large

8405-00-NSH-1301—XXX Large Tall

8405-00-NSH-1302—Small Tall

8405-00-NSH-1200—X Large

8405-00-NSH-1305—X Large Tall

8405-00-NSH-1201—XX Large

8405-00-NSH-1199—Large

8405-00-NSH-1304—Large Tall

8405-00-NSH-1198—Medium

8405-00-NSH-1303—Medium Tall

8405-00-NSH-1197—Small

8405-00-NSH-1306—XX Large Tall

8405-00-NSH-1202—XXX Large

8405-00-NSH-1307—XXX Large Tall

8405-00-NSH-1308—Small Tall

8405-00-NSH-1206—X Large

8405-00-NSH-1207—XX Large

8405-00-NSH-1311—X Large Tall

8405-00-NSH-1205—Large

8405-00-NSH-1310—Large Tall

8405-00-NSH-1204—Medium

8405-00-NSH-1309—Medium Tall

8405-00-NSH-1203—Small

8405-00-NSH-1312—XX Large Tall

8405-00-NSH-1313—XXX Large Tall

8405-00-NSH-1208—XXX Large

8405-00-NSH-1314—Small Tall

8405-00-NSH-1212—X Large

8405-00-NSH-1317—X Large Tall

8405-00-NSH-1213—XX Large

8405-00-NSH-1209—Small

8405-00-NSH-1211—Large

8405-00-NSH-1316—Large Tall

8405-00-NSH-1210—Medium

8405-00-NSH-1315—Medium Tall

8405-00-NSH-1318—XX Large Tall

8405-00-NSH-1214—XXX Large

8405-00-NSH-1319—XXX Large Tall

8405-00-NSH-1410—X Large

8405-00-NSH-1408—Large

8405-00-NSH-1406—Medium

8405-00-NSH-1412—XX Large

8405-00-NSH-1414—XXX Large

Contracting Activity: USDA APHIS MRPBS, MINNEAPOLIS, MN

Mandatory Source(s) of Supply: Human Technologies Corporation, Utica, NY

Amy B. Jensen,
Director, Business Operations.

[FR Doc. 2017-26504 Filed 12-7-17; 8:45 am]

BILLING CODE 6353-01-P